DEPARTMENT OF ENERGY

Federal Energy Regulatory Commission

Combined Notice of Filings #1

Take notice that the Commission received the following electric corporate filings:

Docket Numbers: EC20-48-000.

Applicants: Oliver Wind II, LLC, FPL Energy Oliver Wind II, LLC.

Description: Application for Authorization Under Section 203 of the Federal Power Act, et al. of FPL Energy Oliver Wind II, LLC, et al.

Filed Date: 3/24/20.

Accession Number: 20200324-5190.

Comments Due: 5 p.m. ET 4/14/20.

Take notice that the Commission received the following electric rate filings:

Docket Numbers: ER18-1314-004.

Applicants: PJM Interconnection, L.L.C.

Description: Compliance filing: Errata to Compliance Filing in Docket No. ER18-1314-003 to be effective N/A.

Filed Date: 3/25/20.

Accession Number: 20200325-5136.

Comments Due: 5 p.m. ET 4/15/20.

Docket Numbers: ER18-1667-006.

Applicants: Antelope Expansion 2, LLC.

Description: Supplemental Notice of Non-Material Change in Status to March 6, 2020 Notice of Passive Ownership Interest of Antelope Expansion 2, LLC.

Filed Date: 3/24/20.

Accession Number: 20200324-5165.

Comments Due: 5 p.m. ET 4/14/20.

Docket Numbers: ER19-1940-002.

Applicants: Gulf Power Company.

Description: Compliance filing: Order No. 845 Compliance Filing to be effective 5/22/2019.

Filed Date: 3/24/20.

Accession Number: 20200324-5123.

Comments Due: 5 p.m. ET 4/14/20.

Docket Numbers: ER20-1370-000.

Applicants: Idaho Power Company.

Description: Supplement to March 23, 2020 Idaho Power Company tariff filing (Revised effective date to be 5/26/2020).

Filed Date: 3/24/20.

Accession Number: 20200324-5188.

Comments Due: 5 p.m. ET 4/14/20.

Docket Numbers: ER20-1376-000.

Applicants: American Transmission Systems, Incorporated, PJM Interconnection, L.L.C.

Description: § 205(d) Rate Filing: ATSI submits Revised Interconnection Agreement (IA) SA No. 3994 to be effective 5/23/2020.

Filed Date: 3/24/20.

Accession Number: 20200324-5112.

Comments Due: 5 p.m. ET 4/14/20.

Docket Numbers: ER20-1377-000.

Applicants: Midcontinent Independent System Operator, Inc.

Description: § 205(d) Rate Filing: 2020-03-25_SA 3453 Ameren Illinois-Dressor Plains Solar GIA (J811) to be effective 3/11/2020.

Filed Date: 3/25/20.

Accession Number: 20200325-5030.

Comments Due: 5 p.m. ET 4/15/20.

Docket Numbers: ER20-1378-000.

Applicants: Duke Energy Florida, LLC.

Description: § 205(d) Rate Filing: Revised DEF-RCID NITSA (SA No. 147) to be effective 3/1/2020.

Filed Date: 3/25/20.

Accession Number: 20200325-5033.

Comments Due: 5 p.m. ET 4/15/20.

Docket Numbers: ER20-1379-000.

Applicants: PJM Interconnection, L.L.C.

Description: § 205(d) Rate Filing: Second Revised ISA, SA No. 4776; Queue No. AB1-014/AC2-066/AE1-120 to be effective 2/26/2020.

Filed Date: 3/25/20.

Accession Number: 20200325-5057.

Comments Due: 5 p.m. ET 4/15/20.

Docket Numbers: ER20-1380-000.

Applicants: Evergy Kansas Central, Inc.

Description: Tariff Cancellation: Notice of Cancellation of Rate Schedule No. 321, City of Arma, Kansas to be effective 6/1/2020.

Filed Date: 3/25/20.

Accession Number: 20200325-5076.

Comments Due: 5 p.m. ET 4/15/20.

Docket Numbers: ER20-1381-000.

Applicants: PJM Interconnection, L.L.C.

Description: § 205(d) Rate Filing: First Revised ISA, Service Agreement No. 4438; Queue No. AC2-140 to be effective 3/3/2020.

Filed Date: 3/25/20.

Accession Number: 20200325-5081.

Comments Due: 5 p.m. ET 4/15/20.

Docket Numbers: ER20-1382-000.

Applicants: Southern California Edison Company.

Description: § 205(d) Rate Filing: SCE's Revision to Formula Rate Tariff Authorized 2020 PBOPs Expense Amount to be effective 1/1/2020.

Filed Date: 3/25/20.

Accession Number: 20200325-5125.

Comments Due: 5 p.m. ET 4/15/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2020.
Nathaniel J. Davis, Sr.,
Deputy Secretary.

[FR Doc. 2020-06671 Filed 3-30-20; 8:45 am]

BILLING CODE 6717-01-P